DEPARTMENT OF ENERGY

Federal Energy Regulatory Commission

Combined Notice of Filings #1

Take notice that the Commission received the following exempt wholesale generator filings:

Docket Numbers: EG25-136-000.

Applicants: New Madrid Solar, LLC.

Description: New Madrid Solar, LLC submits Notice of Self-Certification of Exempt Wholesale Generator Status.

Filed Date: 2/7/25.

Accession Number: 20250207-5207.

Comment Date: 5 p.m. ET 2/28/25.

Docket Numbers: EG25-137-000.

Applicants: Forgeview Solar, LLC.

Description: Forgeview Solar, LLC submits Notice of Self-Certification of Exempt Wholesale Generator Status.

Filed Date: 2/7/25.

Accession Number: 20250207-5221.

Comment Date: 5 p.m. ET 2/28/25.

Take notice that the Commission received the following electric rate filings:

Docket Numbers: ER25-720-001.

Applicants: Michigan Electric Transmission Company, LLC.

Description: Tariff Amendment: Amendment to JOA, Request for Shortened Comment Period, Expedited Action to be effective 2/15/2025.

Filed Date: 2/7/25.

Accession Number: 20250207-5179.

Comment Date: 5 p.m. ET 2/14/25.

Docket Numbers: ER25-1256-000.

Applicants: PJM Interconnection, L.L.C.

Description: § 205(d) Rate Filing: Original GIA, SA No. 7522 and CSA, SA No. 7523; Project Identifier No. AF2-149 to be effective 1/10/2025.

Filed Date: 2/7/25.

Accession Number: 20250207-5209.

Comment Date: 5 p.m. ET 2/28/25.

Docket Numbers: ER25-1257-000.

Applicants: New York Independent System Operator, Inc., Niagara Mohawk Power Corporation.

Description: § 205(d) Rate Filing: New York Independent System Operator, Inc. submits tariff filing per 35.13(a)(2)(iii: NYISO—National Grid Joint 205: 2nd Amended SGIA Regan Solar SA2574 to be effective 1/27/2025.

Filed Date: 2/10/25.

Accession Number: 20250210-5019.

Comment Date: 5 p.m. ET 3/3/25.

Docket Numbers: ER25-1258-000.

Applicants: Southwest Power Pool, Inc.

Description: § 205(d) Rate Filing: 4362 Drumtown Solar Surplus Interconnection GIA to be effective 4/11/2025.

Filed Date: 2/10/25.

Accession Number: 20250210-5021.

Comment Date: 5 p.m. ET 3/3/25.

Docket Numbers: ER25-1259-000.

Applicants: PJM Interconnection, L.L.C.

Description: § 205(d) Rate Filing: Original GIA Service Agreement No. 7518; Project Identifier No. AG1-207 to be effective 1/10/2025.

Filed Date: 2/10/25.

Accession Number: 20250210-5039.

Comment Date: 5 p.m. ET 3/3/25.

Docket Numbers: ER25-1260-000.

Applicants: PJM Interconnection, L.L.C.

Description: § 205(d) Rate Filing: Original CSA Service Agreement No. 7519; Project Identifier No. Q596 to be effective 1/9/2025.

Filed Date: 2/10/25.

Accession Number: 20250210-5042.

Comment Date: 5 p.m. ET 3/3/25.

Docket Numbers: ER25-1261-000.

Applicants: Ratts 1 Solar LLC.

Description: § 205(d) Rate Filing: Ratts 1 Solar LLC Cotenancy and SFA to be effective 2/17/2025.

Filed Date: 2/10/25.

Accession Number: 20250210-5049.

Comment Date: 5 p.m. ET 3/3/25.

Docket Numbers: ER25-1262-000.

Applicants: PJM Interconnection, L.L.C.

Description: § 205(d) Rate Filing: Original GIA, Service Agreement No. 7533; AF2-018 to be effective 1/9/2025.

Filed Date: 2/10/25.

Accession Number: 20250210-5059.

Comment Date: 5 p.m. ET 3/3/25.

Docket Numbers: ER25-1263-000.

Applicants: Ratts 1 Phase 2 Solar, LLC.

Description: § 205(d) Rate Filing: Ratts 1 Phase 2 Solar, LLC Cotenancy and SFA Concurrence to be effective 2/17/2025.

Filed Date: 2/10/25.

Accession Number: 20250210-5066.

Comment Date: 5 p.m. ET 3/3/25.

Docket Numbers: ER25-1264-000.

Applicants: Dearborn Industrial Generation, L.L.C.

Description: Tariff Amendment: Notice of Cancellation to be effective 4/11/2025.

Filed Date: 2/10/25.

Accession Number: 20250210-5098.

Comment Date: 5 p.m. ET 3/3/25.

Docket Numbers: ER25-1265-000.

Applicants: PJM Interconnection, L.L.C.

Description: § 205(d) Rate Filing: Original GIA, Service Agreement No. 7540; AF2-311 to be effective 1/24/2025.

Filed Date: 2/10/25.

Accession Number: 20250210-5114.

Comment Date: 5 p.m. ET 3/3/25.

Docket Numbers: ER25-1266-000.

Applicants: PJM Interconnection, L.L.C.

Description: § 205(d) Rate Filing: Original CSA, Service Agreement No. 7541 to be effective 1/14/2025.

Filed Date: 2/10/25.

Accession Number: 20250210-5122.

Comment Date: 5 p.m. ET 3/3/25.

Take notice that the Commission received the following public utility holding company filings:

Docket Numbers: PH25-5-000.

Applicants: LS Power Development, LLC.

Description: LS Power Development, LLC submits FERC 65-B Notice of Change in Fact to Waiver Notification.

Filed Date: 2/6/25.

Accession Number: 20250206-5160.

Comment Date: 5 p.m. ET 2/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 10, 2025.
Carlos D. Clay,
Deputy Secretary.

[FR Doc. 2025-02654 Filed 2-13-25; 8:45 am]

BILLING CODE 6717-01-P